DEPARTMENT OF ENERGY

Federal Energy Regulatory Commission

[Docket No. RP01-53-001]

Great Lakes Gas Transport, LLC; Notice of Compliance Filing

October 23, 2001.

Take notice that on December 8, 2000, Great Lakes Gas Transport, LLC (GT), formerly Gas Transport, Inc., filed an explanation of imbalance trading in compliance with a Commission order issued November 9, 2000 in Docket No. RM96-1-014, et al. The filing provides an explanation of imbalance trading on GT's system.

Any person desiring to protest said filing should file a protest with the Federal Energy Regulatory Commission, 888 First Street, NE., Washington, DC 20426, in accordance with section 385.211 of the Commission's Rules and Regulations. All such protests must be filed on or before October 30, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27087 Filed 10-26-01; 8:45 am]

BILLING CODE 6717-01-P